DEPARTMENT OF THE INTERIOR

Office of Natural Resources Revenue

[Docket No. ONRR-2011-0012]

Major Portion Prices and Due Date for Additional Royalty Payments on Indian Gas Production in Designated Areas Not Associated With an Index Zone

AGENCY: Office of the Secretary, Office of Natural Resources Revenue (ONRR), Interior.

ACTION: Notice.

SUMMARY: Final regulations for valuing gas produced from Indian leases, published August 10, 1999, require the Office of Natural Resources Revenue (ONRR) to determine major portion prices and notify industry by publishing the prices in the Federal Register. The regulations also require ONRR to publish a due date for industry to pay additional royalties based on the major portion prices. This notice provides major portion prices for the 12 months of calendar year 2011.

DATES: The due date to pay additional royalties based on the major portion prices is May 6, 2013.

FOR FURTHER INFORMATION CONTACT: John Barder, Supervisory Manager, Team B, Western Audit and Compliance, ONRR; telephone (303) 231-3702; email John.Barder@onrr.gov; or Mike Curry, Supervisory Auditor, Team B, Western Audit and Compliance, ONRR, telephone (303) 231-3741; email Michael.Curry@onrr.gov. Team B's fax number is (303) 231-3473. Team B's mailing address is Office of Natural Resources Revenue, Western Audit and Compliance Management, Team B, P.O. Box 25165, MS 62520B, Denver, Colorado 80225-0165.

SUPPLEMENTARY INFORMATION: On August 10, 1999, ONRR published a final rule titled “Amendments to Gas Valuation Regulations for Indian Leases” effective January 1, 2000 (64 FR 43506). The Indian gas valuation regulations apply to all gas production from Indian (tribal and allotted) oil and gas leases, except leases on the Osage Indian Reservation.

The regulations require ONRR to publish major portion prices for each designated area not associated with an index zone for each production month beginning January 2000, as well as a due date for additional royalty payments. See 30 CFR 1206.174(a)(4)(ii). If you owe additional royalties based on a published major portion price, you must submit to ONRR, by the due date, an amended Form MMS-2014, Report of Sales and Royalty Remittance (which is valid while we update our form number to ONRR-2014 due to the reorganization). If you do not pay the additional royalties by the due date, ONRR will bill you late payment interest under 30 CFR 1218.54. ONRR will accrue the interest from the due date until we receive your payment and an amended Form MMS-2014. The table below lists the major portion prices for all designated areas not associated with an index zone. The due date is 60 days after the publication date of this notice.

Gas Major Portion Prices ($/MMBtu) for Designated Areas Not Associated With an Index Zone
ONRR-Designated areas | Jan 2011 | Feb 2011 | Mar 2011 | Apr 2011
Blackfeet Reservation | 3.45 | 3.20 | 3.29 | 3.46
Fort Belknap | 5.09 | 5.13 | 4.96 | 5.12
Fort Berthold | 4.34 | 4.03 | 4.12 | 4.21
Fort Peck Reservation | 6.58 | 7.06 | 6.39 | 6.47
Navajo Allotted Leases in the Navajo Reservation | 4.16 | 4.05 | 3.70 | 3.98
Rocky Boys Reservation | 3.84 | 3.64 | 3.63 | 3.72

ONRR-Designated areas | May 2011 | Jun 2011 | Jul 2011 | Aug 2011
Blackfeet Reservation | 3.55 | 3.57 | 3.36 | 3.22
Fort Belknap | 5.11 | 5.09 | 5.13 | 5.10
Fort Berthold | 3.68 | 3.80 | 4.38 | 4.29
Fort Peck Reservation | 6.22 | 6.23 | 6.59 | 5.64
Navajo Allotted Leases in the Navajo Reservation | 4.04 | 4.07 | 4.11 | 4.14
Rocky Boys Reservation | 3.82 | 3.95 | 3.78 | 3.58

ONRR-Designated areas | Sep 2011 | Oct 2011 | Nov 2011 | Dec 2011
Blackfeet Reservation | 3.17 | 2.82 | 2.68 | 2.54
Fort Belknap | 4.99 | 4.93 | 4.81 | 4.78
Fort Berthold | 4.48 | 5.00 | 4.87 | 3.95
Fort Peck Reservation | 6.27 | 6.11 | 6.42 | 5.67
Navajo Allotted Leases in the Navajo Reservation | 3.78 | 3.57 | 3.38 | 3.29
Rocky Boys Reservation | 3.54 | 3.13 | 3.00 | 2.82

For information on how to report additional royalties associated with major portion prices, please refer to our Dear Payor letter dated December 1, 1999, on our Web site at http://www.onrr.gov/FM/PDFDocs/991201.pdf.

Dated: February 26, 2013.
Gregory J. Gould,
Director, Office of Natural Resources Revenue.

[FR Doc. 2013-05284 Filed 3-6-13; 8:45 am]

BILLING CODE 4310-T2-P